DEPARTMENT OF THE INTERIOR

Fish and Wildlife Service

Draft Recovery Plan for the Jarbidge River Distinct Population Segment of Bull Trout (Salvelinus Confluentus)

AGENCY: U.S. Fish and Wildlife Service, Interior.

ACTION: Notice of document availability for review and comment.

SUMMARY: The U.S. Fish and Wildlife Service (“we”) announces the availability of the Draft Recovery Plan for the Jarbidge River Distinct Population Segment of Bull Trout (Salvelinus confluentus) for public review and comment.

DATES: Comments on the draft recovery plan must be received on or before October 29, 2004.

ADDRESSES: Hard copies of the draft recovery plan will be available in 4 to 6 weeks for inspection, by appointment, during normal business hours at the following location: U.S. Fish and Wildlife Service, Nevada Fish and Wildlife Office, 1340 Financial Blvd., Suite 234, Reno, Nevada 89502 (telephone (775) 861-6300). Requests for copies of the draft recovery plan and written comments and materials regarding this plan should be addressed to Bob Williams, Field Supervisor, at the above Reno address. This plan is currently available on the World Wide Web at http://endangered.fws.gov/recovery/index.html#plans.

FOR FURTHER INFORMATION CONTACT: Selena Werdon, Fish and Wildlife Biologist, at the above Reno address and telephone number.

SUPPLEMENTARY INFORMATION:

Background

Recovery of endangered or threatened animals and plants is a primary goal of our endangered species program and the Endangered Species Act (Act) (16 U.S.C. 1531 et seq.). Recovery means improvement of the status of listed species to the point at which listing is no longer appropriate under the criteria set out in section 4(a)(1) of the Act. Recovery plans describe actions considered necessary for the conservation of the species, establish criteria for downlisting or delisting listed species, and estimate time and cost for implementing the measures needed for recovery.

The Act requires the development of recovery plans for listed species unless such a plan would not promote the conservation of a particular species. Section 4(f) of the Act requires that public notice and an opportunity for public review and comment be provided during recovery plan development. We will consider all information presented during the public comment period prior to approval of each new or revised recovery plan. Substantive technical comments may result in changes to the recovery plan. Substantive comments regarding recovery plan implementation may not necessarily result in changes to the recovery plan, but will be forwarded to appropriate Federal or other entities so that they can take these comments into account during the course of implementing recovery actions. Individual responses to comments will not be provided.

Bull trout (Salvelinus confluentus), members of the family Salmonidae, are char native to the Pacific Northwest and western Canada. Compared to other salmonids, bull trout have more specific habitat requirements, including cold water temperatures, particularly for spawning and rearing, and the presence of complex forms of cover for all life history stages, including large woody debris, undercut banks, boulders and pools. Bull trout may be resident or may exhibit one of three migratory life history forms.

The Jarbidge River Distinct Population Segment of bull trout occurs in the Jarbidge River and Bruneau River watersheds of northern Nevada and southwestern Idaho. Bull trout occur in six identified local populations within these watersheds; these are primarily resident fish, with relatively low numbers of migratory fish. These fish exhibit a “fluvial” migratory behavior, migrating from tributaries to larger rivers to mature and then returning to tributaries to spawn. The total number of resident and migratory adult bull trout is estimated at fewer than 500. The bull trout was listed as a threatened species in the Jarbidge River Distinct Population Segment on April 8, 1999 (64 FR 17110).

Bull trout in the Jarbidge River Distinct Population Segment have been separated from other populations of the species for more than 100 years as the result of dams on the Bruneau and Snake Rivers. The bull trout in this population segment have persisted in isolation at the southernmost extent of the species' range, and local populations sampled exhibit a noticeable degree of genetic differentiation. Current factors limiting the recovery of bull trout in the Jarbidge River Distinct Population Segment include increasing water temperatures, livestock grazing, road construction and maintenance, fisheries harvest and incidental mortality, nonnative fish species, and forest management practices (especially the loss of large woody debris).

Persistence of bull trout in the Jarbidge River Distinct Population Segment requires that habitat quality be improved and maintained, and that sufficient opportunity exists for at least occasional gene flow between local populations. The recovery plan identifies actions needed to achieve the recovery of bull trout in this distinct population segment; at the broad scale, these include: (1) Protecting, restoring, and maintaining suitable habitat conditions; (2) preventing negative effects of nonnative fishes; (3) establishing fisheries management goals and objectives compatible with bull trout recovery; (4) characterizing, conserving, and monitoring genetic diversity and gene flow among local populations; (5) implementing adaptive management to monitor the effectiveness of recovery actions; and (6) using all available conservation programs and regulations to protect and conserve bull trout and bull trout habitats.

The recovery criteria for bull trout in the Jarbidge River Distinct Population Segment are designed to demonstrate the maintenance or restoration of broadly distributed populations of bull trout, with an emphasis on the migratory life form; set target levels of adult abundance; ensure stable or increasing population trends over at least two bull trout generations; and address the restoration of connectivity between local populations that may be currently isolated.

Public Comments Solicited

We solicit written comments on this draft recovery plan described. All comments received by the date specified above will be considered in developing the final recovery plan.

Authority

The authority for this action is section 4(f) of the Endangered Species Act, 16 U.S.C. 1533(f).

Dated: May 28, 2004.
Paul Henson,
Manager, California/Nevada Operations Office, U.S. Fish and Wildlife Service.

[FR Doc. 04-14940 Filed 6-30-04; 8:45 am]

BILLING CODE 4310-55-P